ENVIRONMENTAL PROTECTION AGENCY

[FRL-7389-3]

Agency Information Collection Activities: Submission for OMB Review; Comment Request; Used Oil Management Standards Recordkeeping and Reporting Requirements

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Used Oil Management Standards Recordkeeping and Reporting Requirements, OMB Control Number 2050-0124, EPA ICR Number 1286.06, expiring September 30, 2002. The ICR describes the nature of the information collection and its expected burden and cost; where appropriate, it includes the actual data collection instrument.

DATES: Comments must be submitted on or before November 1, 2002.

ADDRESSES: Send comments, referencing EPA ICR No. 1286.06 and OMB Control No. 2050-0124, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-mail at auby.susan@epa.gov, or download off the Internet at http://www.epa.gov/icr and refer to EPA ICR No. 1286.06. For technical questions about the ICR contact Mike Svizzero by phone at (703) 308-0046, or by e-mail at svizzero.michael@epa.gov.

SUPPLEMENTARY INFORMATION: Title: Used Oil Management Standards Recordkeeping and Reporting Requirements, OMB Control No. 2050-0124, EPA ICR No. 1286.06, expiring September 30, 2002. This is a request for an extension of a currently approved collection.

Abstract: The Used Oil Management Standards, which include information collection requests, were developed in accordance with section 3014 of the Resource Conservation and Recovery Act (RCRA), as amended by the Hazardous and Solid Waste Amendments of 1984 (HSWA), which directs EPA to “promulgate regulations * * * as may be necessary to protect public health and the environment from the hazards associated with recycled oil” and, at the same time, to not discourage used oil recycling. In 1985 and 1992, EPA established mandatory regulations that govern the management of used oil (see 40 CFR part 279). To document and ensure proper handling of used oil, these regulations establish notification, testing, tracking and recordkeeping requirements for used oil transporters, processors, re-refiners, marketers, and burners. They also set standards for the prevention and cleanup of releases to the environment during storage and transit, and for the safe closure of storage units and processing and re-refining facilities to mitigate future releases and damages. EPA believes these requirements minimize potential hazards to human health and the environment from the potential mismanagement of used oil by used oil handlers, while providing for the safe recycling of used oil. Information from these information collection requirements is used to ensure compliance with the Used Oil Management Standards. An agency may not conduct or sponsor, and a person is not required to respond to, a collection of information unless it displays a currently valid OMB control number. The OMB control numbers for EPA's regulations are listed in 40 CFR part 9 and 48 CFR chapter 15. The Federal Register notice required under 5 CFR 1320.8(d), soliciting comments on this collection of information was published on April 12, 2002 (67 FR 17991); one comment was received.

Burden Statement: The annual public reporting and recordkeeping burden for this collection of information is estimated to range from 6 minutes to 23 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondent/Affected Entities: Business or other for profit.

Estimated Number of Respondents: 1,640.

Frequency of Response: Biannually.

Estimated Total Annual Hour Burden: 460,286 hours.

Estimated Total Annualized Capital, O&M Cost Burden: $10,011,000.

Send comments on the Agency's need for this information, the accuracy of the provided burden estimates, and any suggested methods for minimizing respondent burden, including through the use of automated collection techniques to the addresses listed above. Please refer to EPA ICR No. 1286.06 and OMB Control No. 2050-0124 in any correspondence.

Dated: September 24, 2002.
Oscar Morales,
Director, Collection Strategies Division.

[FR Doc. 02-25047 Filed 10-1-02; 8:45 am]

BILLING CODE 6560-50-P